DEPARTMENT OF JUSTICE

[OMB 1140-0120]

Agency Information Collection Activities; Proposed eCollection eComments Requested; Revision of a Previously Approved Collection; Visitor Access Request—ATF Form 8620.71

AGENCY: Bureau of Alcohol, Tobacco, Firearms and Explosives, Department of Justice.

ACTION: 60-Day notice.

SUMMARY: The Department of Justice (DOJ), The Bureau of Alcohol, Tobacco, Firearms and Explosives (ATF), will be submitting the following information collection request to the Office of Management and Budget (OMB) for review and approval in accordance with the Paperwork Reduction Act of 1995.

DATES: Comments are encouraged and will be accepted for 60 days until March 11, 2025.

FOR FURTHER INFORMATION CONTACT: If you have additional comments especially on the estimated public burden or associated response time, suggestions, or need a copy of the proposed information collection instrument with instructions or additional information, contact: Niki Wiltshire, Personnel Security Division, PSD, either by mail at Personnel Security Division; Bureau of Alcohol, Tobacco, Firearms, and Explosives; 99 New York Ave. NE, Washington, DC 20226, by email at Niki.Wiltshire@atf.gov, or telephone at 202-648-9260.

SUPPLEMENTARY INFORMATION: Written comments and suggestions from the public and affected agencies concerning the proposed collection of information are encouraged. Your comments should address one or more of the following four points:

—Evaluate whether the proposed collection of information is necessary for the proper performance of the functions of the Bureau of Justice Statistics, including whether the information will have practical utility;

—Evaluate the accuracy of the agency's estimate of the burden of the proposed collection of information, including the validity of the methodology and assumptions used;

—Evaluate whether and if so how the quality, utility, and clarity of the information to be collected can be enhanced; and

—Minimize the burden of the collection of information on those who are to respond, including through the use of appropriate automated, electronic, mechanical, or other technological collection techniques or other forms of information technology, e.g., permitting electronic submission of responses.

Abstract: The Visitor Access Request (ATF F 8620.71) is used to collect personally identifiable information to determine if representatives from other Federal, State, and local agencies can be granted access to ATF facilities to conduct official business. Information Collection (IC) OMB 1140-0120 is being revised to include the monetized value of respondent time, which this ICR did not do before. As a result, this renewal includes an increase in monetized value from $0 to $4,009. The privacy act statement for this ICR has also been updated.

Overview of This Information Collection

1. Type of Information Collection: Revision of a previously approved collection.

2. The Title of the Form/Collection: Visitor Access Request.

3. The agency form number, if any, and the applicable component of the Department sponsoring the collection: Form number: ATF Form 8620.71.

Component: Bureau of Alcohol, Tobacco, Firearms and Explosives, U.S. Department of Justice.

4. Affected public who will be asked or required to respond, as well as the obligation to respond: Affected Public: State, local and Tribal governments and Federal Government.

The obligation to respond is voluntary.

5. An estimate of the total number of respondents and the amount of time estimated for an average respondent to respond: An estimated 900 respondents will provide information to complete this form once annually, and it will take each respondent approximately 0.0833 hours to complete their responses.

6. An estimate of the total annual burden (in hours) associated with the collection: The estimated annual public burden associated with this collection is 75 total hours, which is equal to 900 (total respondents) * 1 (# of response per respondent) * 0.0833 (hours).

7. An estimate of the total annual cost burden associated with the collection, if applicable: $4,009.

Total Burden Hours
Activity | Number of respondents | Frequency (annually) | Total annual responses | Time per response | Total annual burden (hours)
Ex: Survey (individuals or households) | 900 | 1 | 900 | 0.0833 | 75
Unduplicated Totals | 900 | 1 | 900 | 0.0833 | 75

If additional information is required contact: Darwin Arceo, Department Clearance Officer, United States Department of Justice, Justice Management Division, Policy and Planning Staff, Two Constitution Square, 145 N Street NE, 4W-218, Washington, DC.

Dated: December 31, 2024.
Darwin Arceo,
Department Clearance Officer for PRA, U.S. Department of Justice.

[FR Doc. 2024-31783 Filed 1-8-25; 8:45 am]

BILLING CODE 4410-FY-P